ENVIRONMENTAL PROTECTION AGENCY

[EPA-HQ-OPP-2011-0005; FRL-9330-5]

Pesticide Products; Receipt of Applications To Register New Uses

AGENCY: Environmental Protection Agency (EPA).

ACTION: Notice.

SUMMARY: This notice announces receipt of applications to register new uses for pesticide products containing currently registered active ingredients, pursuant to the provisions of section 3(c) of the Federal Insecticide, Fungicide, and Rodenticide Act (FIFRA), as amended. EPA is publishing this Notice of such applications, pursuant to section 3(c)(4) of FIFRA.

DATES: Comments must be received on or before March 1, 2012.

ADDRESSES: Submit your comments, identified by the docket identification (ID) number for the pesticide of interest, specified within Unit II, by one of the following methods:

• Federal eRulemaking Portal: http://www.regulations.gov. Follow the on-line instructions for submitting comments.

• Mail: Office of Pesticide Programs (OPP) Regulatory Public Docket (7502P), Environmental Protection Agency, 1200 Pennsylvania Avenue NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number specified for the pesticide of interest as shown in the registration application summaries. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person is listed at the end of each registration application summary and may be contacted by telephone or email. The mailing address for each contact person listed is: Registration Division (7505P), Office of Pesticide Programs, Environmental Protection Agency, 1200 Pennsylvania Avenue NW., Washington, DC 20460-0001 or Biopesticides and Pollution Prevention Division (7511P), Office of Pesticide Programs, Environmental Protection Agency, 1200 Pennsylvania Avenue NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number). If you are commenting on a docket that addresses multiple products, please indicate to which registration numbers your comment applies.

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications for New Uses

EPA received applications as follows to register pesticide products containing currently registered active ingredients pursuant to the provisions of section 3(c) of FIFRA, and is publishing this Notice of such applications pursuant to section 3(c)(4) of FIFRA. Notice of receipt of these applications does not imply a decision by the Agency on the applications.

1. Registration Number: 100-617. Docket Number: EPA-HQ-OPP-2011-0397. Company name and address: Syngenta Crop Protection, LLC., P.O. Box 18300, Greensboro, NC 27419. Active ingredient: Propiconazole. Proposed Uses: Beans, dry and succulent. Contact: Erin Malone, Registration Division (703) 347-0253, malone.erin@epa.gov.

2. Registration Number: 100-618. Docket Number: EPA-HQ-OPP-2011-0397. Company name and address: Syngenta Crop Protection, LLC., P.O. Box 18300, Greensboro, NC 27419. Active ingredient: Propiconazole. Proposed Uses: Beans, dry and succulent; and post harvest treatments on tomato, and citrus crop group 10-10. Contact: Erin Malone, Registration Division, (703) 347-0253, malone.erin@epa.gov.

3. Registration Number: 100-759. Docket Number: EPA-HQ-OPP-2011-0395. Company name and address: Syngenta Crop Protection, P.O. Box 18300, Greensboro, NC 27409. Active ingredients: Fludioxonil. Proposed Uses: Avocado, beans (dried and succulent except cowpeas), berries (bush and cane), brassica (cole) leafy vegetables, bulb vegetables, citrus fruit, cereal grains, cereal grain (forage, fodder, and straw), cotton, cucurbit vegetables, foliage of legume vegetables, fruiting vegetables, ginseng, grapes, grass (forage, fodder, and hay), herbs and spices, kiwifruit, leafy vegetables except brassica vegetables, leaves of root and tuber vegetables, legume vegetables, nongrass animal feeds (forage, fodder, straw and hay), mango and papaya, peanut, pineapple, pistachio, pome fruit, pomegranate, rapeseed and canola (and crambe, flax seed, jojoba, and lesquerella), root and tuber vegetables, safflower, sunflower, strawberry, stone fruits, tropical fruits, and watercress. Contact: Lisa Jones, Registration Division, (703) 308-9424, jones.lisa@epa.gov.

4. Registration Number: 100-780. Docket Number: EPA-HQ-OPP-2011-0397. Company name and address: Syngenta Crop Protection, LLC., P.O. Box 18300, Greensboro, NC 27419. Active ingredient: Propiconazole. Proposed Uses: Post harvest application on citrus crop group 10-10, stone fruit crop group 12, and tomato. Contact: Erin Malone, Registration Division, (703) 347-0253, malone.erin@epa.gov.

5. Registration Number: 100-811. Docket Number: EPA-HQ-OPP-2011-0394. Company name and address: Syngenta Crop Protection, LLC., P.O. Box 18300, Greensboro, NC 27409. Active ingredients: Cyprodinil. Proposed Uses: Beans (succulent and dried except cowpeas), berries (caneberry subgroup 13-07A, bushberry subgroup 13-07B, small fruit vine climbing subgroup, except fuzzy kiwifruit 13-07F, low growing berry subgroup 13-07G), brassica (cole) leafy vegetables subgroup, bulb vegetables, citrus, cucurbit vegetables, fruiting vegetables crop group 8-10, grapes, herbs (dried and fresh), kiwi, leafy vegetables (except brassica), leaves of root and tuber vegetables, pistachios, pome fruit crop group 11-10, root vegetables (except sugarbeet), spinach, stone fruit, strawberry, tree nuts, tropical fruits, and watercress. Contact: Lisa Jones, Registration Division, (703) 308-9424, jones.lisa@epa.gov.

6. Registration Number: 100-828. Docket Number: EPA-HQ-OPP-2011-0394. Company name and address: Syngenta Crop Protection, LLC., P.O. Box 18300, Greensboro, NC 27409. Active ingredients: Cyprodinil. Proposed Uses: Aronia berry, black currant, buffalo currant, Chilean guava, edible honeysuckle, European barberry, highbush cranberry, jostaberry, native currant, red currant, sea buckthorn, wild raspberry, amur river grape, hardy kiwifruit, maypop, schisandra berry, New Zealand spinach, spinach, spinach vine, chinese onion, daylily bulb, fritillaria bulb, great-headed, garlic, lily bulb, pearl onion, potato onion, serpent garlic, shallot, green onion, beltsville bunching, onion, Chinese chive, fresh leaves, fresh chive leaves, fritillaria leaves, fresh onion, hosta elegans, kurrat, lady's leek, leek, macrostem onion, shallot fresh, leaves, tree tops onion, welsh onion tops, wild leek, wild onion, bearberry, bilberry, cloudberry, muntries, partridgeberry, dragon fruit, eggplant and other fruiting vegetables including African eggplant, bush tomato, bell pepper, cocona, currant tomato, eggplant, garden huckleberry, goji berry, groundcherry, martynia, naranjilla, okra, pea eggplant, pepino, pepper, bell pepper, nonbell, roselle, scarlet eggplant, sunberry, tree tomato, dragon fruit. Contact: Lisa Jones, Registration Division, (703) 308-9424, jones.lisa@epa.gov.

7. Registration Numbers: 100-921 and 100-922. Docket Number: EPA-HQ-OPP-2011-0086. Company name and address: Syngenta Crop Protection, LLC P.O. Box 18300, Greensboro, NC 27419. Active ingredient: Acibenzolar. Proposed Use: Low growing berry subgroup 13-07G. Contact: Rose Kearns, Registration Division, (703) 305-5611, kearns.rosemary@epa.gov.

8. Registration Number: 100-953. Docket Number: EPA-HQ-OPP-2011-0394 and EPA-HQ-OPP-2011-0395. Company name and address: Syngenta Crop Protection, P.O. Box 18300, Greensboro, NC 27409. Active ingredients: Cyprodinil and Fludioxonil. Proposed Uses: Aronia berry, black currant, buffalo currant, Chilean guava, edible honeysuckle, European barberry, highbush cranberry, jostaberry, native currant, red currant, sea buckthorn, wild raspberry, amur river grape, hardy kiwifruit, maypop, schisandra berry, New Zealand spinach, spinach, spinach vine, Chinese onion, daylily bulb, fritillaria bulb, great-headed, garlic, lily bulb, pearl onion, potato onion, serpent garlic, shallot, green onion, beltsville bunching, onion, Chinese chive, fresh leaves, fresh chive leaves, fritillaria leaves, fresh onion, hosta elegans, kurrat, lady's leek, leek, macrostem onion, shallot fresh, leaves, tree tops onion, welsh onion tops, wild leek, wild onion, bearberry, bilberry, cloudberry, muntries, partridgeberry, dragon fruit, eggplant and other fruiting vegetables including African eggplant, bush tomato, bell pepper, cocona, currant tomato, eggplant, garden huckleberry, goji berry, groundcherry, martynia, naranjilla, okra, pea eggplant, pepino, pepper, bell pepper, nonbell, roselle, scarlet eggplant, sunberry, tree tomato. Contact: Lisa Jones, Registration Division, (703) 308-9424, jones.lisa@epa.gov.

9. Registration Number: 100-969. Docket Number: EPA-HQ-OPP-2011-0395. Company name and address: Syngenta Crop Protection, P.O. Box 18300, Greensboro, NC 27409. Active ingredients: Fludioxonil. Proposed Uses: Pineapple, potato, tomato, acerola, atemoya, biriba, cherimoya, custard apple, dragon fruit, feijoa, guava, ilama, jaboticaba, passionfruit, soursop, starfruit, sugar apple, wax jambu, Australian desert lime, Australian finger lime, Australian round lime, Brown River finger lime, Mount White lime, New Guinea wild lime, Russell River lime, sweet lime, Tachibana orange, Tahiti lime, tangelo, tangerine, (Mandarin) tangor, trifoliate orange, uniq fruit, azarole, medlar, pear, Asian quince, quince, Chinese quince, Japanese tejocote. Contact: Lisa Jones, Registration Division, (703) 308-9424, jones.lisa@epa.gov.

10. Registration Number: 100-1242. Docket Number: EPA-HQ-OPP-2011-0395. Company name and address: Syngenta Crop Protection, P.O. Box 18300, Greensboro, NC 27409. Active ingredient: Fludioxonil. Proposed Uses: Pineapple, potato, tomato, acerola, atemoya, biriba, cherimoya, custard apple, dragon fruit, feijoa, guava, ilama, jaboticaba, passionfruit, soursop, starfruit, sugar apple, wax jambu, Australian desert lime; Australian finger lime; Australian round lime; Brown River finger lime; Mount White lime; New Guinea wild lime; Russell River lime; sweet lime; Tachibana orange; Tahiti lime; tangelo; tangerine; (Mandarin) Tangor; Trifoliate orange; Uniq fruit; Azarole, Medlar, pear, Asian quince, quince, Chinese quince, Japanese tejocote. Contact: Lisa Jones, Registration Division, (703) 308-9424, jones.lisa@epa.gov.

11. Registration Number: 100-1308. Docket Number: EPA-HQ-OPP-2011-0395 and EPA-HQ-OPP-2011-0398. Company name and address: Syngenta Crop Protection, P.O. Box 18300, Greensboro, NC 27409. Active ingredient: Fludioxonil and azoxystrobin. Proposed Uses: Australian desert lime, Australian finger lime, Australian round lime, Brown River finger lime, Mount White lime, New Guinea wild lime, Russell River lime, sweet lime, Tachibana orange, Tahiti lime, tangelo, tangerine, (Mandarin) tangor, trifoliate orange, uniq fruit. Contact: Lisa Jones, Registration Division, (703) 308-9424, jones.lisa@epa.gov.

12. Registration Number: 100-1317. Docket Number: EPA-HQ-OPP-2011-0394 and EPA-HQ-OPP-2011-0395. Company name and address: Syngenta Crop Protection, P.O. Box 18300, Greensboro, NC 27409. Active ingredients: Cyprodinil and difenoconazole. Proposed Uses: Eggplant, pepper (includes bell pepper), chili pepper, cooking pepper, pimento, African eggplant, bush tomato, bell pepper, cocona, currant tomato, eggplant, garden huckleberry, goji berry, groundcherry, martynia, naranjilla, okra, pea eggplant, pepino, pepper, bell, pepper, nonbell, roselle, scarlet eggplant, sunberry, Amur river grape, gooseberry, kiwifruit, hardy, maypop, muscadines, schisandra berry, azarole, medlar, pear, Asian quince, quince, Chinese quince, Japanese tejocote, low-growing berry subgroup. Contact: Lisa Jones, Registration Division, (703) 308-9424, jones.lisa@epa.gov.

13. Registration Numbers: 264-704 and 264-788. Docket Number: EPA-HQ-OPP-2011-0477. Company name and address: Bayer CropScience, LP, 2 T.W. Alexander Drive, P.O. Box 12014, Research Triangle Park, NC 27709. Active ingredient: Pyrimethanil. Proposed Uses: Onion subgroups 3-07 A & B and small fruit, and berry subgroups 13-07 F & G. Contact: Tamue L. Gibson, Registration Division, (703) 305-9096, gibson.tamue@epa.gov.

14. Registration Number: 279-3338. Docket Number: EPA-HQ-OPP-2011-0873. Company name and address: FMC Corporation, 1735 Market Street, Philadelphia, PA 19103. Active ingredient: Fluthiacet-methyl. Proposed Uses: Crop subgroup 6C (dry shelled pea and bean) and crop group 15 (barley, proso and pearl millets, oats, rye, teosinte, triticale, and wheat). Contact: Bethany Benbow, Registration Division, (703) 347-8072, benbow.bethany@epa.gov.

15. Registration Number: 279-9550. Docket Number: EPA-HQ-OPP-2011-0873. Company name and address: FMC Corporation, 1735 Market Street, Philadelphia, PA 19103. Active ingredient: Fluthiacet-methyl. Proposed Uses: For formulation into end-use herbicide products used on crop subgroup 6C (dry shelled pea and bean except soybean) and crop group 15 (cereal grains except rice). Contact: Bethany Benbow, Registration Division, (703) 347-8072, benbow.bethany@epa.gov.

16. Registration Number: 400-480 (technical); 400-514; 400-503. Docket Number: EPA-HQ-OPP-2010-0904. Company name and address: Chemtura Corporation, 199 Benson Rd, Middlebury, CT 06749. Active ingredient: Bifenazate. Proposed Uses: Herb Subgroup 19A (except chives and chervil); fruiting vegetable group 8-10; pome fruit group 11-10 and; Timothy hay. Contact: Jennifer Gaines, Registration Division, (703) 305-5957, gaines.jennifer@epa.gov.

17. Registration Number/File Symbol: 42750-223 and 42750-EGI. Docket Number: EPA-HQ-OPP-2011-0957. Company name and address: Albaugh, Inc., P.O. Box 2127, Valdosta, GA 31604. Active ingredient: Fomesafen. Proposed Uses: Non-cropland areas. Contact: Michael Walsh, Registration Division, (703) 308-2972, walsh.michael@epa.gov.

18. File Symbol: 62719-AUI. Docket Number: EPA-HQ-OPP-2011-0962. Company name and address: Dow AgroSciences, LLC 9330 Zionsville Road, Indianapolis, IN 46268. Active ingredient: Fluroxypyr. Proposed Use: Rice. Contact: Bethany Benbow, Registration Division, (703) 347-8072, benbow.bethany@epa.gov.

19. Registration Number: 62719-285. Docket Number: EPA-HQ-OPP-2011-0962. Company name and address: Dow AgroSciences, LLC 9330 Zionsville Road, Indianapolis, IN 46268. Active ingredient: Fluroxypyr. Proposed Uses: For formulation into end-use herbicide products used on crop group 15 (cereal grains including barley, buckwheat, corn (field, pop, sweet), millet, oats, rice, rye, sorghum, teosinte, triticale, wheat and wild rice, crop group 16 (forage, fodder and straw of cereal grains). Contact: Bethany Benbow, Registration Division, (703) 347-8072, benbow.bethany@epa.gov.

20. Registration Number: 62719-577. Docket Number: EPA-HQ-OPP-2011-0962. Company name and address: Dow AgroSciences, LLC 9330 Zionsville Road, Indianapolis, IN 46268. Active ingredient: Fluroxypyr. Proposed Uses: Buckwheat, popcorn, rice, rye, teosinte, and wild rice. Contact: Bethany Benbow, Registration Division, (703) 347-8072, benbow.bethany@epa.gov.

21. File Symbol: 83399-RR. Docket Number: EPA-HQ-OPP-2011-0903. Company name and address: CEVA Animal Health, LLC, 301 Route 17 North, Rutherford, NJ 07070 USA. Active ingredient: Dinotefuran and pyriproxifen. Proposed Use: Pour-on use on horses. Contact: Rita Kumar, Registration Division, (703) 308-8291, kumar.rita@epa.gov.

22. Registration Numbers: 86203-8, 86203-12, 86203-23, and 59639-135. Docket Number: EPA-HQ-OPP-2011-0433. Company name and address: Mitsui Chemicals Agro, Inc., c/o Landis International, Inc., P.O. Box 5126, Valdosta, GA 31603-5126; and Valent U.S.A. Corporation, 1600 Riviera Avenue, Suite 200, Walnut Creek, CA 94596-8025. Active ingredient: Dinotefuran. Proposed Uses: Berry and small fruit, bulb and green onion, tuberous and corm vegetables, watercress, peach and nectarine. Contact: Rita Kumar, Registration Division, (703) 308-8291, kumar.rita@epa.gov.

List of Subjects

Environmental protection, Pesticides and pest.

Dated: January 12, 2012.
Lois Rossi,
Director, Registration Division, Office of Pesticide Programs.

[FR Doc. 2012-2039 Filed 1-30-12; 8:45 am]

BILLING CODE 6560-50-P